FEDERAL ELECTION COMMISSION

Sunshine Act Notice

TIME AND DATE: Thursday, March 27, 2025 at 10 a.m.

PLACE: Hybrid hearing. 1050 First Street NE, Washington, DC (12th floor) and virtual.

Note: If you would like to virtually access the hearing, see the instructions below.

STATUS: This hearing will be open to the public. To access the hearing virtually, go to the commission's website www.fec.gov and click on the banner to be taken to the hearing page.

MATTER TO BE CONSIDERED:

Audit Hearing: John Curtis for Utah (A23-03)

ADDITIONAL INFORMATION: This hearing may be cancelled if the Commission is not open due to a funding lapse..

CONTACT PERSON FOR MORE INFORMATION: Myles Martin, Deputy Press Officer. Telephone: (202) 694-1221.

Individuals who plan to attend in person and who require special assistance, such as sign language interpretation or other reasonable accommodations, should contact Laura E. Sinram, Secretary and Clerk, at (202) 694-1040 or secretary@fec.gov, at least 72 hours prior to the hearing date.

Authority: Government in the Sunshine Act, 5 U.S.C. 552b.

Laura E. Sinram,
Secretary and Clerk of the Commission.

[FR Doc. 2025-04497 Filed 3-14-25; 11:15 am]

BILLING CODE 6715-01-P